DEPARTMENT OF TRANSPORTATION

Office of the Secretary

Aviation Proceedings, Agreements Filed the Week Ending March 27, 2010

The following Agreements were filed with the Department of Transportation under the Sections 412 and 414 of the Federal Aviation Act, as amended (49 U.S.C. 1382 and 1384) and procedures governing proceedings to enforce these provisions. Answers may be filed within 21 days after the filing of the application.

Docket Number: DOT-OST-2010-0077.

Date Filed: March 26, 2010.

Parties: Members of the International Air Transport Association.

Subject: Mail Vote 630—Resolution 010t, Composite Resolutions 300, 301, Baggage Allowance Weight System, Baggage Allowance Piece System (Memo 1565).

Intended Effective Date: 1 April 2010.

Renee V. Wright,
Program Manager, Docket Operations, Federal Register Liaison.

[FR Doc. 2010-8110 Filed 4-8-10; 8:45 am]

BILLING CODE 4910-9X-P